ENVIRONMENTAL PROTECTION AGENCY

[EPA-HQ-OPP-2008-0263; FRL-8371-8]

Fenvalerate; Product Cancellation Order

AGENCY: Environmental Protection Agency (EPA).

ACTION: Notice.

SUMMARY: This notice announces EPA's order for the cancellations, voluntarily requested by the registrants and accepted by the Agency, of products containing the pesticide fenvalerate, pursuant to section 6(f)(1) of the Federal Insecticide, Fungicide, and Rodenticide Act (FIFRA), as amended. This cancellation order follows an April 30, 2008 Federal Register Notice of Receipt of Requests from the fenvalerate registrants to voluntarily cancel all their fenvalerate product registrations. Fenvalerate is a synthetic pyrethroid insecticide which is used to control insects and related organisms, mollusks, fouling organisms and miscellaneous invertebrates on agricultural, pet care, domestic home and garden (domestic), and commercial/industrial/food and non-food/mosquito abatement (commercial) sites. These are the last fenvalerate products registered for use in the United States. In the April 30, 2008 notice, EPA indicated that it would issue an order implementing the cancellations unless the Agency received substantive comments within the 30 day comment period that would merit its further review of these requests, or unless the registrants withdrew their requests within this period. The Agency did not receive any comments on the notice. Further, the registrants did not withdraw their requests. Accordingly, EPA hereby issues in this notice a cancellation order granting the requested cancellations. Any distribution, sale, or use of the fenvalerate products subject to this cancellation order is permitted only in accordance with the terms of this order, including any existing stocks provisions.

DATES: The cancellations are effective July 9, 2008.

FOR FURTHER INFORMATION CONTACT: Wilhelmena Livingston, Special Review and Reregistration Division (7508P), Office of Pesticide Programs, Environmental Protection Agency, 1200 Pennsylvania Ave., NW., Washington, DC 20460-0001; telephone number: (703) 308-8025; fax number: (703) 308-8005); e-mail address: livingston.wilhelmena@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0263. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by registrants, of all end-use fenvalerate products registered under section 3 of FIFRA. These registrations are listed in sequence by registration number in Table 1 of this unit.

Table 1.—Fenvalerate Product Cancellations
EPA Registration Number | Product Name
538-166 | Scotts House Plant Insect Spray
538-173 | Chinch Bug Control
9444-120 | Total Release Fogger
10806-61 | Contact Roach and Ant Killer VI
10806-73 | Contact Lawn Spray Concentrate for Fleas
10806-74 | Contact Lawn Spray Concentrate for Fleas II
10806-87 | Contact Roach and Ant Killer IX
10806-93 | Contact Ornamental Gypsy Moth and Japanese Beetle Spray
10806-94 | Contact Roach and Ant Killer XI
10807-150 | Misty Fire Ant Injector
28293-151 | Unicorn Flea and Tick Lawn Spray No.1
28293-159 | Unicorn RTU Home and Premise Spray
28293-162 | Unicorn Zap Insecticide
28293-163 | Unicorn Flush-Out Spray
28293-164 | Unicorn Household Insecticide II
28293-217 | Unicorn Residual Spray #4

Table 2.—Registrants of Canceled Fenvalerate Products
EPA Company Number | Company Name and Address
538 | The Scotts Company 14111 Scottslawn Road Marysville, Ohio 43041
9444 | Waterbury Companies, Inc. 64 Avenue of Industry Waterbury, Connecticut 06705
10806 | Contact Industries 641 Dowd Avenue Elizabeth, NJ 07201
10807 | Amrep, Inc. 990 Industrial Park Drive Marietta, Georgia 30062
28293 | Phaeton Corporation P.O. Box 290 Madison, Georgia 30650

III. Summary of Public Comments Received and Agency Response to Comments

During the public comment period, EPA received no comments in response to the April 30, 2008 Federal Register notice announcing the Agency's receipt of the requests for voluntary cancellations of fenvalerate.

IV. Cancellation Order

Pursuant to FIFRA section 6(f), EPA hereby approves the requested cancellations of fenvalerate registrations identified in Table 1 of Unit II. Accordingly, the Agency orders that the fenvalerate product registrations identified in Table 1 of Unit II. are hereby canceled. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

Registrants may sell and distribute existing stocks for 1 year from the date of the cancellation request. The products may be sold, distributed, and used by people other than the registrant until existing stocks have been exhausted, provided that such sale, distribution and use complies with the EPA-approved label and labeling of the product.

List of Subjects

Environmental protection, Pesticides and pests.

Dated: June 25, 2008.
Steven Bradbury,
Director, Special Review and Reregistration Division, Office of Pesticide Programs.

[FR Doc. E8-15314 Filed 7-8-08; 8:45 am]

BILLING CODE 6560-50-S